DEPARTMENT OF THE INTERIOR

Bureau of Land Management

[AK-921-1410-BK-P]

Notice for Publication; Filing of Plat of Survey; Alaska

1. The plat of survey of the following described lands was officially filed in the Alaska State Office, Anchorage, Alaska, on the date indicated:

A plat representing the dependent resurvey of a portion of the subdivisional lines, the subdivision of Section 16, and the metes-and-bounds survey of Lot 5, Section 16, Township 6 South, Range 14 West, Seward Meridian, Alaska, accepted April 7, 2004, and officially filed May 6, 2004.

2. This plat was prepared at the request of the Bureau of Land Management, Division of Cadastral Survey. It will immediately become part of the basic record for describing lands for all authorized purposes within this township.

3. This survey has been placed in the open files in the Alaska State Office and is available to the public as a matter of information. All inquiries relating to these lands should be sent to the Alaska State Office, Bureau of Land Management, 222 West Seventh Avenue, #13, Anchorage, Alaska 99513-7599; 907-267-1403.

Daniel L. Johnson,
Chief, Branch of Field Surveys.

[FR Doc. 04-12240 Filed 5-28-04; 8:45 am]

BILLING CODE 1410-BK-P